DEPARTMENT OF TRANSPORTATION

Surface Transportation Board

[STB Finance Docket No. 33882]

Kasgro Rail Corp.—Lease and Operation Exemption—EASX Corporation and Rail Services Corporation

Kasgro Rail Corp., a noncarrier, has filed a verified notice of exemption under 49 CFR 1150.31 to lease from EASX Corporation and Rail Services Corporation and operate (through its Kasgro Rail Lines Division) two branches of rail line totaling approximately 3.5 miles in length in New Castle, Lawrence County, PA. The lines are as follows: (1) the “New Castle Branch” which begins at New Castle Branch Monumented Base Line (MBL), at Survey Station 10+00, opposite the former Pittsburgh and Lake Erie Railroad's (P&LE) Main Line MBL Survey Station 2580+10, and extends in a generally northeasterly direction to the former P&LE Valuation Station 146+10; and (2)(a) the “Big Run Branch” which begins at P&LE New Castle Branch Baseline of Survey, at Survey Station 84+44, and extends in a generally southwesterly direction to the connection with trackage of CSX Transportation, Inc. (CSXT), and (b) approximately 0.7 miles of rail line known as the “Sample Spur,” which begins at Valuation Station 2+00 off of CSXT's main line between Cumberland, MD, and Willard, OH, and continues in a generally northwardly direction to Valuation Station 40+75.7, where it connects with ISS Railroad, Inc.

The parties report that they intend to consummate the transaction on the effective date of the exemption. The earliest the transaction can be consummated is June 12, 2000, 7 days after the exemption was filed.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33882, must be filed with the Surface Transportation Board, Office of the Secretary, Case Control Unit, 1925 K Street, NW, Washington, DC 20423-0001. In addition, a copy of each pleading must be served on Richard H. Streeter, Esq., Barnes & Thornburg, 1401 Eye Street, NW, Suite 500, Washington, DC 20005.

Board decisions and notices are available on our website at “WWW.STB.DOT.GOV.”

Decided: June 14, 2000.
By the Board, David M. Konschnik, Director, Office of Proceedings.
Vernon A. Williams,
Secretary.

[FR Doc. 00-15679 Filed 6-21-00; 8:45 am]

BILLING CODE 4915-00-P